DEPARTMENT OF COMMERCE

International Trade Administration

[A-489-816]

Certain Oil Country Tubular Goods From Turkey: Rescission of Antidumping Duty Administrative Review; 2018-2019

AGENCY: Enforcement and Compliance, International Trade Administration, Department of Commerce.

SUMMARY: The Department of Commerce (Commerce) is rescinding the administrative review of the antidumping duty order on certain oil country tubular goods (OCTG) from Turkey for the period September 1, 2018, through August 31, 2019.

DATES: Applicable December 17, 2019.

FOR FURTHER INFORMATION CONTACT: Lochard Philozin, AD/CVD Operations, Office I, Enforcement and Compliance, International Trade Administration, U.S. Department of Commerce, 1401 Constitution Avenue NW, Washington, DC 20230; telephone: (202) 482-4260.

SUPPLEMENTARY INFORMATION:

Background

On September 3, 2019, Commerce published a notice of opportunity to request an administrative review of the antidumping duty order on OCTG from Turkey for the period of review September 1, 2018, through August 31, 2019.¹ On September 30, 2019, the petitioners ² timely requested an administrative review of the order with respect to certain companies.³ On October 11, 2019, Borusan Mannesmann Boru Sanayi ve Ticaret and Borusan Istikbal Ticaret submitted a request asking Commerce to reject the petitioners' request for an administrative review with respect to Borusan, maintaining that Borusan was specifically excluded from the antidumping order on OCTG and, thus, should not be part of the administrative review.⁴ Subsequently, on October 30, 2019, the petitioners timely withdrew their request of an administrative review with regard to entries by Borusan Mannesmann Boru Sanayi ve Ticaret, Borusan Istikbal Ticaret, Borusan Mannesmann Boru Yatirim Holding, and Borusan Lojistik Dag. Deg. Tas Ve (collectively, Borusan).⁵ On November 12, 2019, in accordance with section 751(a) of the Tariff Act of 1930, as amended (the Act) and 19 CFR 351.221(c)(1)(i), Commerce initiated an administrative review of the antidumping duty order on OCTG from Turkey with respect to 12 companies.⁶

¹ See Antidumping or Countervailing Duty Order, Finding, or Suspended Investigation; Opportunity to Request Administrative Review, 84 FR 45949 (September 3, 2019).

² The petitioners are United States Steel Corporation, Maverick Tube Corporation, Tenaris Bay City, Inc., TMK IPSCO, Vallourec Star, L.P., and Welded Tube USA.

³ See the petitioners' Letter, “Oil Country Tubular Goods from Turkey: Request for Administrative Review of Antidumping Duty Order,” dated September 30, 2019. The petitioners requested a review of the following companies: Bakır Grup Makine İmalat Bakım Montaj Demontaj Sanayi ve Ticaret Ltd. Şti., Borusan Mannesmann Boru Sanayi ve Ticaret A.Ş. and its affiliates (collectively, Borusan), Cayirova Boru Sanayi ve Ticaret A.S., Hydra İnşaat Sanayi ve Ticaret Anonim Şirketi, Kalibre Boru Sanayi ve Ticaret, NETBORU San. ve Dış. Tic. Koll. Şti., Tosçelik Profil ve Sac Endustrisi A.S. and its affiliates (collectively, Tosçelik), Yılmaz Pipo, and Yucel Boru Ithalat-Ihracat ve Pazarlama A.S.

⁴ See Borusan's Letter to Commerce, “Oil Country Tubular Goods from Turkey, Case No. A-489-816: Request to Reject Petitioners' Request for Administrative Review,” dated October 11, 2019.

⁵ See the petitioners' Letter to Commerce, “Oil Country Tubular Goods from Turkey: Withdrawal of Request for Administrative Review of Antidumping Duty Order Re: Borusan,” dated October 30, 2019.

⁶ See Initiation of Antidumping and Countervailing Duty Administrative Reviews, 84 FR 61011 (November 12, 2019) (Initiation Notice).

Rescission of Administrative Review

Pursuant to 19 CFR 351.213(d)(1), Commerce will rescind an administrative review “in whole or in part, if a party that requested a review withdraws the request within 90 days of the date of publication of notice of initiation of the requested review.” On November 26, 2019, the petitioners timely withdrew their request for review of all remaining companies.⁷ Because we received no other requests for review of Bakır Grup Makine İmalat Bakım Montaj Demontaj Sanayi ve Ticaret Ltd. Şti., Cayirova Boru Sanayi ve Ticaret A.S., Hydra İnşaat Sanayi ve Ticaret Anonim Şirketi, Kalibre Boru Sanayi ve Ticaret, NETBORU San. ve Dış. Tic. Koll. Şti., Tosçelik, Yılmaz Pipo, and Yucel Boru Ithalat-Ihracat ve Pazarlama A.S., we are rescinding the administrative review of OCTG from Turkey covering the period September 1, 2018, through August 31, 2019, in its entirety, in accordance with 19 CFR 351.213(d)(1).

⁷ See petitioners' Letter to Commerce, “Oil Country Tubular Goods from Turkey: Withdrawal of Request for Administrative Review of Antidumping Duty Order,” date November 26, 2019.

Assessment

Commerce will instruct U.S. Customs and Border Protection (CBP) to assess antidumping duties on all appropriate entries of OCTG from Turkey during the period September 1, 2018, through August 31, 2019, at rates equal to the cash deposit rate of estimated antidumping duties required at the time of entry, or withdrawal from warehouse, for consumption, in accordance with 19 CFR 351.212(c)(1)(i). Commerce intends to issue appropriate assessment instructions to CBP 15 days after publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: December 11, 2019.
James Maeder,
Deputy Assistant Secretary for Antidumping and Countervailing Duty Operations.

[FR Doc. 2019-27136 Filed 12-16-19; 8:45 am]

BILLING CODE 3510-DS-P